DEPARTMENT OF LABOR

Employment and Training Administration

Agency Information Collection Activities; Comment Request; Worker Profiling and Reemployment Services Activity and Worker Profiling and Reemployment Services Outcomes Reports

ACTION: Notice.

SUMMARY: The Department of Labor's (DOL) Employment and Training Administration (ETA) is soliciting comments concerning a proposed extension for the authority to conduct the information collection request (ICR) titled, “Worker Profiling and Reemployment Services Activity and Worker Profiling and Reemployment Services Outcomes.” This comment request is part of continuing Departmental efforts to reduce paperwork and respondent burden in accordance with the Paperwork Reduction Act of 1995 (PRA).

DATES: Consideration will be given to all written comments received by August 15, 2025.

ADDRESSES: A copy of this ICR with applicable supporting documentation, including a description of the likely respondents, proposed frequency of response, and estimated total burden, may be obtained free by contacting Tony Brown by telephone at (202) 693-0032 (this is not a toll-free number), TTY 1-877-889-5627 (this is not a toll-free number), or by email at OUI-PRA@dol.gov.

Submit written comments about, or requests for a copy of, this ICR by mail or courier to the U.S. Department of Labor, Employment and Training Administration, Office of Unemployment Insurance Room S-4520, 200 Constitution Avenue NW, Washington, DC 20210; by email: OUI-PRA@dol.gov.

FOR FURTHER INFORMATION CONTACT: Lawrence Burns by telephone at (202) 693-3141 (this is not a toll-free number) or by email at OUI-PRA@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is soliciting comments concerning the collection of data in the ETA 9048, Worker Profiling and Reemployment Services Activity Report, and the ETA 9049, Worker Profiling and Reemployment Services Outcomes Report. Authorization for both reports expires on March 31, 2026. The Worker Profiling and Reemployment Services (WPRS) program, mandated by the Unemployment Compensation Amendments of 1993, Public Law 103-152, identifies and ranks unemployment insurance (UI) claimants by their potential for exhausting UI benefits before returning to work and refers these claimants to appropriate reemployment services.

WPRS is a required UI activity that each state may operate as a standalone program or integrate the activity within the state's Reemployment Services and Eligibility Assessments (RESEA) program, which is a voluntary reemployment program authorized by Section 306 of the Social Security Act (SSA). Specifically, states participating in the RESEA program may opt to integrate WPRS into the RESEA participant selection process. Additional information about the integration of WPRS into RESEA is available in Unemployment Insurance Program Letter No. 08-24 and Training and Employment Guidance Letter No. 11-23 (both entitled Fiscal Year (FY) 2024 Funding Allotments and Operating Guidance for Unemployment Insurance (UI) Reemployment Services and Eligibility Assessment (RESEA) Grants).

The ETA 9048 and ETA 9049 reports are the only means of tracking the activities in the WPRS program. The ETA 9048 report describes the number of claimants at various points in the WPRS system from initial profiling through the completion of specific reemployment services. The ETA 9049 report describes the reemployment experience of profiled claimants selected for referral to services by examining the state's existing wage record files to capture which quarter the individuals who received reemployment services became employed, the amount of wages they earned, and whether the individuals receiving services changed industries. Section 303(a)(6), SSA, authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0353.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Worker Profiling and Reemployment Services Activity and Worker Profiling and Reemployment Services Outcomes.

Forms: ETA 9048, ETA 9049.

OMB Control Number: 1205-0353.

Affected Public: State Workforce Agencies.

Estimated Number of Respondents: 105,220.

Frequency: Varies.

Total Estimated Annual Responses: 205,383.

Estimated Average Time per Response: Varies.

Estimated Total Annual Burden Hours: 273,037.

Total Estimated Annual Other Cost Burden: $0.

Susan Frazier,
Acting Assistant Secretary for Employment and Training, Labor.

[FR Doc. 2025-10870 Filed 6-13-25; 8:45 am]

BILLING CODE 4510-FW-P